DEPARTMENT OF ENERGY

Federal Energy Regulatory Commission

[Docket No. RP02-79-000]

Williston Basin Interstate Pipeline Company; Notice of Proposed Changes in FERC Gas Tariff

December 5, 2001.

Take notice that on November 30, 2001, Williston Basin Interstate Pipeline Company (Williston Basin or Company), tendered for filing as part of its FERC Gas Tariff, Second Revised Volume No. 1, the following tariff sheets, to become effective November 30, 2001:

Ninth Revised Sheet No. 5

Seventh Revised Sheet No. 6

Seventh Revised Sheet No. 6A

Fourth Revised Sheet No. 7

Seventh Revised Sheet No. 8

Eighth Revised Sheet No. 9

Sixth Revised Sheet No. 10

Williston Basin is proposing to amend its tariff to eliminate the display of its system maps. Williston Basin requests that the Commission grant waiver of section 154.106 of the Commission regulations requiring the display of system maps in a pipeline's FERC Gas Tariff.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30570 Filed 12-10-01; 8:45 am]

BILLING CODE 6717-01-P